POSTAL SERVICE

39 CFR Part 111

Shape-Based Labeling Lists; Correction

AGENCY: Postal Service.

ACTION: Final rule; correction.

SUMMARY: The Postal Service (USPS®) is correcting a final rule that appeared in the Federal Register on December 30, 2025. The document issued a final rule amending Mailing Standards of the United States Postal Service, Domestic Mail Manual (DMM®) in various sections to implement shape-based labeling lists for SCF letters, flats, and parcels.

DATES: Effective Date: January 2, 2026.

FOR FURTHER INFORMATION CONTACT: Doriane Harley at (202) 268-2537 or Dale Kennedy at (202) 268-6592.

SUPPLEMENTARY INFORMATION: In FR Doc. 2025-23996 appearing on page 61063 in the Federal Register on December 30, 2025, the following correction is made:

DATES: [Corrected]

On page 61063, in the first column, the DATES section is corrected to read “Effective Date: February 1, 2026.”

Colleen Hibbert-Kapler,
Attorney, Ethics and Legal Compliance.

[FR Doc. 2025-24212 Filed 12-31-25; 8:45 am]

BILLING CODE P